DEPARTMENT OF COMMERCE

National Oceanic and Atmospheric Administration

50 CFR Part 229

[Docket No. 160219129-6999-02]

RIN 0648-BF78

List of Fisheries for 2017

AGENCY: National Marine Fisheries Service (NMFS), National Oceanic and Atmospheric Administration (NOAA), Commerce.

ACTION: Final rule; delay of effective date.

SUMMARY: In accordance with the memorandum of January 20, 2017, from the Assistant to the President and Chief of Staff, entitled “Regulatory Freeze Pending Review,” published in the Federal Register on January 24, 2017 (the Memorandum), this action delays the effective date of the final rule NMFS published on January 12, 2017.

DATES: Effective February 8, 2017, the effective date of the final rule publishing the final List of Fisheries (LOF), which published on January 12, 2017, at 82 FR 3655, is delayed to March 21, 2017.

SUPPLEMENTARY INFORMATION: NMFS published its LOF for 2017, as required by the Marine Mammal Protection Act (MMPA), to reflect new information on interactions between commercial fisheries and marine mammals. NMFS must classify each commercial fishery on the LOF into one of three categories under the MMPA based upon the level of mortality and serious injury of marine mammals that occurs incidental to each fishery. The classification of a fishery on the LOF determines whether participants in that fishery are subject to certain provisions of the MMPA, such as registration, observer coverage, and take reduction plan requirements.

On January 20, 2017, the White House issued a memo instructing Federal agencies to temporarily postpone the effective date for 60 days after January 20, 2017, of any regulations or guidance documents that have published in the Federal Register but not yet taken effect, for the purpose of “reviewing questions of fact, law, and policy they raise.” In accordance with the Memorandum, this action delays the final rule NMFS published on January 12, 2017, at 82 FR 3655, to March 21, 2017.

Authority: 16 U.S.C. 1361 et seq.

Dated: February 3, 2017.
Alan D. Risenhoover,
Acting Deputy Assistant Administrator for Regulatory Programs, National Marine Fisheries Service.

[FR Doc. 2017-02587 Filed 2-7-17; 8:45 am]

BILLING CODE 3510-22-P